GENERAL SERVICES ADMINISTRATION

[Notice-ME-2024-03; Docket No. 2024-0002; Sequence No. 39]

Notice of General Services Administration's (GSA) Office of Government-Wide Policy Emerging Trends and Policy Symposium

AGENCY: Office of Government-wide Policy (OGP), General Services Administration (GSA).

ACTION: Notice of hybrid symposium.

SUMMARY: GSA's Office of Technology Policy is hosting an Emerging Trends and Policy Symposium to bring the Federal, academia, and industry communities together for a series of presentations and a fireside chat to discuss trends and policies that foster innovation within the field of artificial intelligence.

DATES: Thursday, September 19, from 8 a.m. to noon, eastern time (ET).

ADDRESSES: All attendees, including industry partners, must register for the event here: https://gsa.zoomgov.com/webinar/register/WN_oySkVOReT8aprYXHEoCPig.

Members of the press are invited to attend but are required to register with the GSA Press Office via email to press@gsa.gov by Friday, September 6, 2024.

FOR FURTHER INFORMATION CONTACT: GSA's Office of Technology Policy Front Office(mefrontoffice@gsa.gov) and Shawn Watson at shawn.watson@gsa.gov or 202-368-0854.

SUPPLEMENTARY INFORMATION:

Background

Artificial Intelligence (AI) technologies are rapidly transforming industries, economies, and societies. The Federal Government aims to address the dynamic landscape of AI through informed policy discussions, ensuring these technologies are developed and deployed responsibly.

Emerging AI trends include machine learning advancements, natural language processing, applications in vehicles, drones, and robots, as well as the integration of big data.

Considerations to policy should be informed by ethical AI development, privacy and security, workforce impact, collaboration, and standardization while promoting innovation and acting ethically.

Format

The Emerging Trends and Policy Symposium convenes leaders from the Federal Government, academia, and industry to discuss their experiences with artificial intelligence. The summit will include four presentations and a fireside chat panel discussion.

If you have questions for the panelists, you can email them to mefrontoffice@gsa.gov.

Special Accommodations

ASL Interpreter will be in attendance online and in person. Zoom will have the option to enable closed captioning. If additional accommodations are needed, please note them on the Zoom Webinar registration form.

In-Person and Webinar Speakers (Subject to Change Without Notice)

Hosted by:

• Shawn Watson, Program Management Officer; GSA Office of Government-wide Policy, Office of Technology Policy

• Babur Kohy, Director (Acting), Identity Assurance and Trusted Access Division, GSA Office of Government-wide Policy, Office of Technology Policy

Agenda Topic Areas

• Acquisition Approaches to Emerging Technologies

• Past, Present, and Future Possibilities of Government Adoption of AI

• A Generative AI Flexible Architecture Approach and Roadmap

• Artificial Intelligence Policy

Katherine Joyce,
General Services Administration, Office of Government-wide Policy, Office of Technology Policy, Chief of Staff.

[FR Doc. 2024-17866 Filed 8-9-24; 8:45 am]

BILLING CODE 6820-68-P